ENVIRONMENTAL PROTECTION AGENCY

[FRL-6908-2]

Nondiscrimination on the Basis of Sex in Education Programs or Activities Receiving Federal Financial Assistance

AGENCY: Environmental Protection Agency (EPA).

ACTION: Notice of programs and activities receiving financial assistance from the Environmental Protection Agency that are covered by Title IX of the Education Amendments of 1972, as amended.

SUMMARY: In accordance with subpart F of the final common rule for the enforcement of Title IX of the Education Amendments of 1972, as amended, 20 U.S.C. 1681, et seq. (“Title IX”) this notice lists those programs and activities that receive financial assistance from the U.S. EPA and are covered by Title IX. Title IX prohibits recipients of Federal financial assistance from discriminating on the basis of sex in education programs or activities. Subpart F requires each Federal agency that awards Federal financial assistance to publish in the Federal Register a notice of the programs covered by the Title IX regulations within sixty (60) days after the effective date (September 29, 2000) of the final common rule. The final common rule for the enforcement of Title IX was published in the Federal Register by twenty (20) Federal agencies, including the EPA, on August 30, 2000, (65 FR 52857-52895).

EFFECTIVE DATE: November 27, 2000.

ADDRESSES: Address all comments concerning this notice to U.S. Environmental Protection Agency, Office of Civil Rights, Mail Code 1201A, 1200 Pennsylvania Avenue, NW, Washington, DC 20460.

FOR FURTHER INFORMATION CONTACT: Ann E. Goode, Director, Office of Civil Rights, U.S. Environmental Protection Agency, Mail Code 1201A, 1200 Pennsylvania, Ave., NW, Washington, D.C. 20460. Telephone: (202) 564-7272 (voice), (202) 501-1822 (TDD). Facsimile: (202) 501-1836.

SUPPLEMENTARY INFORMATION: Title IX prohibits recipients of Federal financial assistance from discriminating on the basis of sex in educational programs or activities. Specifically, the statute states that “[n]o person in the United States shall, on the basis of sex, be excluded from participation in, be denied the benefits of, or be subjected to discrimination under any education program or activity receiving Federal financial assistance,” with specific exceptions for various entities, programs, and activities. 20 U.S.C. 1681(a). This statute was modeled after Title VI of the Civil Rights Act of 1964, 42 U.S.C. 2000d et seq., which prohibits discrimination on the basis of race, color, and national origin in all programs or activities that receive Federal financial assistance. The goal of Title IX is to ensure that Federal funds are not utilized for and do not support sex-based discrimination, and that individuals have equal opportunities, without regard to sex, to pursue, engage or participate in, and benefit from academic, extracurricular, research, occupational training, employment, or other educational programs or activities. For example (and without limitation), subject to exceptions described in these Title IX regulations, Title IX prohibits a recipient from discriminating on the basis of sex in: student admissions, scholarship awards and tuition assistance, recruitment of students and employees, the provision of courses and other academic offerings, the provision of and participation in athletics and extracurricular activities, and all aspects of employment, including, but not limited to, selection, hiring, compensation, benefits, job assignments and classification, promotions, demotions, tenure, training, transfers, leave, layoffs, and termination. Of course, Title IX prohibits discrimination on the basis of sex in the operation of, and the provision or denial of benefits by, education programs conducted by noneducational institutions, including, but not limited to, prisons, museums, job training institutes, and for profit and nonprofit organizations.

List of Programs and Activities Receiving Financial Assistance From EPA and Covered by Title IX

The following is a list of programs and activities receiving financial assistance from the EPA as of September 2000 that are covered by Title IX. The list is comprised of Active Environmental Education Grants and Active Grants to Public and Private Colleges and Universities.

Active Environmental Education Grants

Alabama Mayors Corporation for Economic Cultural

Alameda County Office of Education

Alaska Discovery Foundation, Inc.

Alliance for New Jersey Environmental Education

American Institute for Learning

American Lung Association of Arizona

American Lung Association of Illinois

Arab Community Center for Economic

Arkansas 4-H Foundation

Association of Vermont Recyclers

Benedictine University

Better Housing League/Greater Cincinnati

Bi-State Regional Commission

Bitterroot Ecological Awareness Resources

Bluemont Elementary

Boston Public School District

Boys & Girls Clubs of East Jackson County

Boys & Girls Clubs of Greater Kansas City

Cacapon Institute

Calypso Farm and Ecology Center

Campbell County School District

Carson City School District

Castro Valley Unified School District

CBIA Education Foundation

Cenla Pride

Center for Alaskan Coastal Studies, Inc.

Central Arkansas Planning & Development District

Central Community College

Chance, Inc.

Chattahoochee High School

Chattahoochee-Flint Regional Development Center

Chesapeake Audubon Society

City of Austin

City of Gary

City of Naples Utilities Department

City of New York Parks and Recreation

City of Tumwater

City of Westland

City Seeds

Coastal Carolina University

Colorado Alliance for Environmental Education

Colorado River Union High School District

Columbia Basin College

Communities Creating Connections, Inc.

Contra Costa County Health Services Department

Cooperating School Districts

Cornell Coop Extension-St. Lawrence City

Council for Environmental Education

Council on the Environment, Inc.

County of Somerset

Creation Station

Crook County Soil & Water Conservation

Center for Instructional Staff Development & Evaluation

Cumberland River Compact, Inc.

Delaware Academy of Science

Delaware Department of Natural Resources

Delaware Ecumenical Council on Children

Douglas Unified School District #27

Downingtown Area School District

Drexel University

Eastern Oregon University

Educational Broadcasting Corporation

Emporia State University

Environmental Educ. Council of Ohio

Environmental Learning for Kids

Fairview Area Schools

Florida Atlantic University

Florida Institute of Technology

Four Corners School of Outdoor Education

Frenchman Bay Conservancy

Friends of Bluff Lake

Friends of the Rio Grande Nature Center

Friends of the Salt Springs Park, Inc.

Friends of the Urban Forest

Front Range Earth Force

Georgia Department of Natural Resources

Grand Traverse Tribal Council

Great Bay Stewards, Inc.

Greater Newark Conservancy

Green City Data Project of Colorado

Guilderland Central School District

H.M. McKemy Middle School

Hackensack Meadowlands Development Co.

Hawaii Nature Center

Haywood County 4-H Club

Heart of Oklahoma Council of Camp Fire

Hudson River Sloop Clearwater

Indiana Dunes Environmental Learning

Inner-City Coalition on the Environment

Integrated Day Charter School

Inter-American U. of Puerto Rico, Inc.

Iowa State University

Jackson Public Schools

Jefferson County Public Schools

Kansas Association for Conservation & Environmental Education

Kansas City Kansas Community College

Keep Providence Beautiful

Kids Consortium, Inc.

Kirkwood Community College

Lake Champlain Basin Science Center

Lake County Forest Preserve

Lake Superior State University

Lake Washington School District

Land Partners Through Stewardship

Lewis & Clark School

Louisiana Environmental Education Association

Lower Cape Communications, Inc.

Mahoning Valley/Northeast Ohio Camp

Mahopac Central Middle School

Matanuska-Susitna Borough School District

Metropolitan Dade County Dept of Environment

Michigan Recycling Coalition

Michigan Technological University

Miller Springs Alliance, Inc.

Milton Public Schools

Milwaukee Community Service Corps, Inc.

Missouri Botanical Garden

Montana Audubon, Inc.

Montana Science Institute, Inc.

Montana State University-Bozeman

Murray State University

National Black Men's Health Network, Inc.

Navajo Resource Conservation Development Council

North Carolina Association of Soil and Water Conservation

Nebraska Game and Parks Commission

Nebraska Groundwater Foundation

Nebraska State 4-H Camp

New England Aquarium Corporation

Norman Public Schools-Washington Elementary

North American Association for Environmental Education

North County Workforce Partnership

Northeast Sustainable Energy Association

Old Dominion University Research Foundation

Oldham County Board of Education

Oregon Graduate Institute of Science

Oregon State University

Patriots' Trail Girl Scout Council

Pennsylvania Environmental Council

People's C.O.R.E.

Phipps Community Development Corporation

Piedmont Park Conservancy

Pocono Environmental Education Center

Portsmouth Public School

Prairiewoods:Franciscan Spirituality

Radford University

Regional Council of Rural Counties

Rogue Valley Council of Governments

Saint Francis College

Saint Regis Mohawk Tribe

Salish Sea Expeditions

San Francisco Unified School District

San Juan Resource Conservation

San Marcos Consolidated ISD

School Board of Broward County

School District of Philadelphia

Seguin Outdoor Learning Center

Seneca Park Zoo Society

Sequoia Foundation

Shade-Central City School District

Shelburne Farms

Shenendehowa Central School District

Society of American Foresters

Soundwaters, Inc.

Southwest Detroit Environmental Vision

Southwest Environmental Center

Southwest Youth Corporations

Springfield Library and Museums Association

Starkville School District

State of Vermont

Stony Brook-Millstone Watershed Association

Southwest Center for Education & the National Swampscott Public Schools

Teaching Responsible Earth Education

The Catskill Center for Conservation

The Childrens Treehouse

The College of Santa Fe

The Surplus Exchange, Inc.

The Tides Center/Caya

Theodore Roosevelt Sanctuary

Thorne Ecological Institute

Trinidad Rancheria

Twin Cities Tree Trust

University of Alaska Fairbanks

University of Alaska Southeast

University of California

University of Delaware

University of Findlay

University of Minnesota Dakota County

University of Mississippi

University of North Dakota

University of Rhode Island

University of South Carolina

University of Texas Health Science

University of the Virgin Islands

University of Utah

University of Wisconsin-Green Bay

Urban Tree Connection

Utah Society for Environmental Education

Vermont Center for the Book

Vermont D.O.H.

Victor Central School

Washington Department of Fish and Wildlife

Washington State University

Watterson Accelerated Elementary PTA

Weehawken Board of Education

West Chester University of Pennsylvania

West Harlem Environmental Action, Inc.

Wilson County Schools

Winooski Valley Park District

Woonsocket Education Department

YMCA of Middle Tennessee

Active Grants to Public and Private Colleges and Universities

Alabama A&M University

American University

Antioch New England Graduate School

Arizona State University

Arkansas University for Medical Sciences

Auburn University

Baylor College of Medicine

Bill Priest Institute

Bishop State Community College

Board of Regents, UCCSN

Boise State University

Boston University

Boston University Medical Campus

Bowie State University

Bowling Green State University

Brigham Young University

Brown University

Bucks County Community College

California Inst of Technology

California Polytechnic State University

California State University

California State University Hayward

Carnegie Mellon University

Case Western Reserve University

Casper College

Catonsville Community College

Central Carolina Technical College

Central Michigan University

Central Washington University

Charles County Community College

Clark University

Clarkson University

Clemson University

Cleveland State University

College of Southern Maryland

College of the Holy Cross

College/University of Charleston

Colorado School of Mines

Colorado State University

Columbia University

Community College of Baltimore County

Connecticut University Health Center

Cornell University

Crowder College

Dallas County Community College Dist

Dartmouth College

Delaware Technical & Community College

Delaware Valley College

Duke University

Duke University Medical Center

Duquesne University

East Central University

Eastern IA Community College District

Eastern Michigan University

El Centro College

Emory University

Evergreen State College

Ferris State University

Florida International University

Florida State University

Front Range Community College

Gannon University

George Mason University

George Washington University

Georgia State University Research Foundation

Georgia Tech Applied Research Corp.

Georgia Tech Research Corporation

Georgia Univ. Research Foundation

Grand Valley State University

Gulf Coast Research Laboratory

Hampshire College

Harvard College

Heidelberg College

Hendrix College

Houston Community College Southeast

Humboldt State University Foundation

Illinois Institute of Technology

Imperial Valley College

Indiana University

Iowa State University

Jacksonville State University

Jefferson Medical College

Jobs for Youth-Boston, Inc.

Johns Hopkins University

Jr. College District of Mineral Area

Kansas State Forester

Kansas State University

Kansas University Medical Center

Kent State University

Kirkwood Community College

Lamar University

Langston University

Lehigh University

Linn-Benton Community College

Loma Linda University

Louisiana State University and A & M College

Louisiana State University

Louisiana Universities Marine

Louisville University RES Foundation, Inc.

Loyola University of Chicago

Manhattan College

Marquette University

Marshall University Research Corp

Massachusetts Institute of Technology

McNeese State University

Medical College of Ohio

Medical College of Wisconsin

Medical University of South Carolina

Merrimack College

Metropolitan Community Colleges

Miami University

Miami-Dade Community College

Michigan State University

Michigan Technological University

Mississippi State University

Montana State University

Montana Tech of the University of Montana

Montclair State University

Morgan State University

Mount Sinai School of Medicine

MS-AL Sea Grant Consortium

New Jersey Institute of Technology

New Jersey University of Medicine and Dentistry

New Mexico State University

New York University School of Medicine

New York University

New York University Medical Center

North Carolina Central University

North Carolina State University

North Dakota State University

Northern Arizona University

Northern Kentucky University

Northland College

Northwest Indian College

Northwestern University

Occidental College

Ohio State University Research Foundation

Ohio University

Oklahoma State University

Oregon Graduate Institute of Science and Technology

Oregon Health Sciences University

Oregon State University

Pennsylvania State University

Pima County Community College

Portland State University

Pratt University

Princeton University

Purdue University

Red Rocks Community College

Rensselaer Polytechnic Institute

Research Foundation of CUNY

Roger Williams University

Rutgers the State University of NJ-Piscataway

Rutgers University

Rutgers University-Cook College

Saint Louis Community College

Saint Mary's College of Maryland

Saint Vincent College

Salem State College

Salisbury State University

San Diego State University

San Francisco State University

Shaw University

Sistema Universitario Ana G. Mendez

South Dakota State University

Southern Arkansas University Tech

Southern University A&M Collage at Baton Rouge

Southwest Texas State University

Southwestern Community College District

Spelman College

Stanford University

Suny Research Foundation.

Syracuse University-Maxwell School

Tarleton State University

Temple University School of Medicine

Tennessee Technological University

Texas A&M Research Foundation

Texas Engineering Experiment Station

Texas Tech University

Texas University Medical Branch

Tufts College

Tufts University

Tufts University School of Medicine

Tulane University

Tulane University Medical Center

UMDNJ-New Jersey Medical School

UMDNJ-Robert Wood Johnson Medical School

UMDNJ-School of Public Health

University and Community College System of Nevada

University of Alabama

University of Alabama at Birmingham

University of Alabama in Huntsville

University of Alaska

University of Alaska-Anchorage

University of Alaska-Fairbanks

University of Alaska Southeast-SITKA

University of Arizona

University of Arkansas

University of Arkansas for Medical Science

University of California

University of California Berkeley

University of California Davis

University of California Irvine

University of California Los Angeles

University of California Riverside

University of California San Diego

University of California Santa Barbara

University of California Santa Cruz

University of Cincinnati

University of Colorado

University of Colorado at Boulder

University of Colorado at Colorado Springs

University of Colorado at Denver

University of Colorado Health Science Center

University of Connecticut

University of Dayton

University of Delaware

University of Findlay

University of Florida

University of Georgia

University of Guam

University of Hawaii

University of Idaho

University of Illinois

University of Illinois at Chicago

University of Illinois at Urbana-Champaign

University of Iowa

University of Kansas Medical Center

University of Kentucky

University of Kentucky Research Foundation

University of Louisiana at Lafayette

University of Louisville

University of Louisville Res. Foundation, Inc

University of Maine

University of Maryland

University of Maryland-Baltimore

University of Maryland-Cambridge

University of Maryland-College Park

University of Maryland Baltimore County

University of Maryland Biotechnology Institute

University of Maryland Eastern Shore

University of Massachusetts

University of Massachusetts Boston

University of Massachusetts Lowell

University of Massachusetts, Amherst

University of Maryland Center for Environmental Studies

University of Memphis

University of Miami

University of Michigan

University of Minnesota

University of Mississippi

University of Missouri

University of Missouri-Columbia

University of Montana

University of Nebraska

University of Nebraska at Omaha

University of Nebraska-Lincoln

University of Nebraska-Omaha

University of Nevada

University of Nevada-Las Vegas

University of New Hampshire

University of New Mexico

University of New Mexico ATR Institute

University of New Mexico Board of Regents

University of New Mexico Health Sciences Center

University of New Orleans

University of North Carolina

University of North Carolina at Chapel Hill

University of North Dakota

University of North Texas

University of Northern Iowa

University of Notre Dame

University of Oklahoma

University of Oklahoma Health Science Center

University of Oregon

University of Pennsylvania

University of Pittsburgh

University of Redlands

University of Rhode Island

University of Rochester

University of South Alabama

University of South Carolina

University of South Dakota

University of South Florida

University of Southern California

University of Southern Maine

University of Southern Mississippi

University of Southwestern Louisiana

University of Tennessee

University of Texas

University of Texas at Arlington

University of Texas at Austin

University of Texas at Brownsville

University of Texas at El Paso

University of Texas Health Science Center

University of the South

University of Toledo

University of Tulsa

University of Utah

University of Vermont

University of Virginia

University of Washington

University of West Florida

University of Wisconsin

University of Wisconsin-Green Bay

University of Wyoming

Utah State University

Vanderbilt University School of Medicine

Vermont Technical College

Virginia Commonwealth University

Virginia Institute of Marine Science

Virginia Polytechnic Inst & State University

Washington State University

Washington University

Wayne State University

Wesleyan University

Western Kentucky University

Western Michigan University

Western Nevada Community College

Wiley College

Wilkes University

William Marsh Rice University

Wright State University

Wytheville Community College

Xavier University of Louisiana

Yale University

Other grant programs and activities and grantees or recipients may also be covered by Title IX if they involve education programs. A complete list of all financial assistance provided by EPA is available on the Internet from the EPA's Grants Information and Control System (GICS) through the EPA's Envirofacts Warehouse at http://www.epa.gov/enviro/html/gics/. This information is also published in the Catalog of Federal Domestic Assistance, which is published each year by the General Services Administration (GSA). The Catalog's website address is http://www.cfda.gov. Catalog information is available by calling, toll free, 1-800-669-8331 or by writing to: Federal Domestic Assistance Catalog Staff (MVS), General Services Administration, Reporters Building, Room 101, 300 7th Street, SW., Washington, DC 20407.

The Congressional Review Act, 5 U.S.C. 801 et seq., as added by the Small Business Regulatory Enforcement Fairness Act of 1996, does not apply because this action is not a rule, for purposes of 5 U.S.C. 804(3).

Dated: November 20, 2000.
Mary M. O'Lone,
Acting Director, Office of Civil Rights.

[FR Doc. 00-30114 Filed 11-24-00; 8:45 am]

BILLING CODE 6560-50-P